DEPARTMENT OF HEALTH AND HUMAN SERVICES

Substance Abuse and Mental Health Services Administration

Notice of Request for Applications for Grant Program To Provide Substance Abuse Treatment and Reentry Services to Sentenced Juveniles and Young Adult Offenders Returning to the Community From the Correctional System (Short Title: Young Offender Reentry Program) (TI 04-002)

Authority: Section 509 of the Public Health Service Act, as amended and subject to the availability of funds.

AGENCY: Substance Abuse and Mental Health Services Administration, HHS.

ACTION: Notice of request for applications for Grant Program to Provide Substance Abuse Treatment and Reentry Services to Sentenced Juveniles and Young Adult Offenders Returning to the Community from the Correctional System (Short Title: Young Offender Reentry Program) (TI 04-002).

SUMMARY: The United States Department of Health and Human Services (HHS), Substance Abuse and Mental Health Services Administration's (SAMHSA) Center for Substance Abuse Treatment (CSAT) is accepting applications for fiscal year (FY) 2004 grants to expand and/or enhance substance abuse treatment and related reentry services in agencies currently providing supervision of and services to sentenced juvenile and young adult offenders returning to the community from incarceration for criminal/juvenile offenses. Applicants are expected to form stakeholder partnerships that will plan, develop and provide community-based substance abuse treatment and related reentry services for the targeted populations. Because reentry transition must begin in the correctional or juvenile facility before release, funding may be used for limited activities in institutional correctional settings in addition to the expected community-based services.

DATES: Applications are due on June 15, 2004.

FOR FURTHER INFORMATION CONTACT: For questions on program issues, contact: Kenneth W. Robertson, Team Leader, Systems Improvement Branch, Division of Services Improvement, SAMHSA/CSAT, 5600 Fishers Lane, Rockwall II, Suite 740, Rockville, MD 20857, Phone: (301) 443-7612, Fax: (301) 443-8345, E-mail: kroberts@samhsa.gov.

For questions on grants management issues, contact: Kathleen Sample, Division of Grants Management, Substance Abuse and Mental Health Services Administration/OPS, 5600 Fishers Lane, Rockwall II 6th Floor, Rockville, MD 20857, Phone: (301) 443-9667, Fax: (301) 443-6468, E-mail: ksample@samhsa.gov.

SUPPLEMENTARY INFORMATION: Catalogue of Federal Domestic Assistance (CFDA) No.: 93.243.

Key Dates

Application Deadline: June 15, 2004

Intergovernmental Review (E.O. 12372): Letters from State Single Point of Contact (SPOC) are due no later than 60 days after application deadline.

Public Health System Impact Statement (PHSIS)/Single State Agency Coordination: Applicants must send the PHSIS to appropriate State and local health agencies by application deadline. Comments from Single State Agency are due no later than 60 days after application deadline.

Date of Issuance: April 2004.

Table of Contents

I. Funding Opportunity Description

1. Introduction

2. Expectations

II. Award Information

1. Award Amount

2. Funding Mechanism

III. Eligibility Information

1. Eligible Applicants

2. Cost Sharing or Matching

3. Other

IV. Application and Submission Information

1. Address To Request Application Package

2. Content and Form of Application Submission

3. Submission Dates and Times

4. Intergovernmental Review (E.O. 12372) Requirements

5. Funding Limitations/Restrictions

6. Other Submission Requirements

V. Application Review Information

1. Evaluation Criteria

2. Review and Selection Process

VI. Award Administration Information

1. Award Notices

2. Administrative and National Policy Requirements

3. Reporting

VII. Agency Contacts

Appendix A—Checklist for Formatting Requirements and Screenout Criteria for SAMHSA Grant Applications

Appendix B—Glossary

Appendix C—Statement of Assurance

I. Funding Opportunity Description

1. Introduction

As authorized under section 509 of the Public Health Service Act, the Substance Abuse and Mental Health Services Administration (SAMHSA), Center for Substance Abuse Treatment (CSAT), announces the availability of Fiscal Year 2004 grants to expand and/or enhance substance abuse treatment and related reentry services in agencies currently providing supervision of and services to sentenced juvenile and young adult offenders returning to the community from incarceration for criminal/juvenile offenses. Applicants are expected to form stakeholder partnerships that will plan, develop and provide community-based substance abuse treatment and related reentry services for the targeted populations. Because reentry transition must begin in the correctional or juvenile facility before release, funding may be used for limited activities in institutional correctional settings in addition to the expected community-based services. (Note: see Expectations section below for allowable services in incarcerated settings.)

2. Expectations

2.1 Target Population

This program addresses the needs of sentenced substance-abusing juveniles and young adult offenders returning to their families and community from adult or juvenile incarceration in facilities including prisons, jails, or juvenile detention centers. This grant program is not designed to address the needs of individuals in custody or detention settings awaiting adjudication, or sentenced to residential treatment facilities, or school-based programs.

SAMHSA/CSAT will award grants to applicants proposing to serve one of two specific young offender population categories:

Juveniles: Those sentenced offenders 14 years up to 18 years old under the jurisdiction of the juvenile justice system. (In those State jurisdictions where juvenile justice supervision extends up past 18 years of age, those “juveniles” are eligible to be served.)

Young Adult Offenders: Those sentenced offenders up to 24 years of age under the supervision of the adult criminal justice system.

The applicant organization must clearly state in the application Abstract and in the Project Narrative which population is to be served and the number of clients to be served each year.

In addition to qualifying as either a “juvenile offender” or a “young adult offender” as defined above, individuals must meet the following qualifications to receive services funded under this grant program. They must:

• Be assessed as substance-abusing or diagnosed as having a substance abuse disorder;

• Have been sentenced by the criminal or juvenile justice system to incarceration;

• If incarcerated, be within one year of scheduled release to the community in order to receive services in the correctional/detention setting (including limited assessment, transition planning, and systems coordination).—[Note: see Section I-2.4 Expectations, Required Systems Linkages and Services/Treatment of this Request for Applications (RFA)]; and

• If already released to the community from incarceration, be within 60 days of release from incarceration and under some form of juvenile/criminal supervision.

2.2 Background

Statistics regarding juvenile offenders indicate that “juveniles were involved in 16 percent of all violent crime arrests and 32 percent of all property crimes in 1999. . .'' As the trend toward confining greater numbers of juveniles and young offenders continues, so does the growing number of young offenders reentering our communities. An estimated 100,000 youth are released from secure and residential facilities and returned to the community each year. Research also shows that a small percentage of juveniles commit an overwhelming majority of juvenile crime, and that a substantial number of these juvenile and young adult offenders are substance-involved or have substance abuse disorders.

Over the past decade, awareness of the issue of the need for a continuing care system for juvenile and young adult offenders has grown as States and local communities have struggled with the increasing number of these individuals returning to the community after release from correctional confinement. Often the juvenile or adult criminal justice system has services and structures in place for these offenders at entry into the system (i.e., at pre-trial or adjudication), but there are few and fragmented services in place for these young offenders as they are released from correctional settings. Reentry into the community and reintegration into the family are risky times for these offenders and their families. The U.S. Department of Justice's Office of Juvenile Justice and Delinquency Prevention (OJJDP) indicates that in the first year following release, young offenders re-offend at a rate of sixty-three (63) percent. Substance abuse treatment for offenders in prison and in the community has been extensively studied and evaluated over the past several years, and the results are consistent and clear—treatment works, reducing crime and recidivism. SAMHSA/CSAT recognizes the need to successfully return and reintegrate these youths into the community by providing substance abuse treatment and other related reentry services while also ensuring public safety for the community and family. This program builds on previous and ongoing SAMHSA/CSAT criminal and juvenile justice program initiatives, and builds on learning gained from these previous initiatives.

2.3 Required Letters of Support From Proposed Key Stakeholders

SAMHSA/CSAT is seeking applications from individual organizations that have or will form partnerships with key stakeholders such as criminal/juvenile agencies (as appropriate to the juvenile or young adult population specified in your application), alcohol and drug abuse agencies, substance abuse treatment providers and community-based organizations providing treatment-related wrap around services for family and community reintegration. Therefore, all eligible entities that apply are required to provide in Appendix 2 of the application, “Letters of Support and Commitment,” (as appropriate to the proposed approach) from key partners. Examples of key partners include:

• The State or local Department of Corrections;

• The State or local Alcohol and Drug Abuse Agency;

• The State or local Mental Health Agency;

• The State or local juvenile/criminal justice agency responsible for community supervision upon release from incarceration (such as parole authority, after release judicial or probation agency, reentry court, community corrections supervision authority, youth release authority);

• Community-based substance abuse treatment agencies whose services will be used (Note: see Section III-3.2 Eligibility Information/Other/Evidence of Experience and Credentials); and

• Other Federal, State, or local government agencies and community-based organizations including faith-based organizations, whose services will be used for ancillary reentry services, including housing assistance, job skills development, employment assistance, educational and vocational assistance, and family counseling, among other services.

Applications submitted by Indian Tribes and tribal organizations for juveniles and young adults returning from Tribal or Federal facilities must include the appropriate Tribal or Federal stakeholder agencies/organizations in lieu of State or local governmental entities, as appropriate.

Letters of support and commitment must include:

• The agency/organization's commitment to participate;

• The proposed role and level of support of the stakeholder agency/organization; and

• The signature of the head of the agency/organization.

Because SAMHSA/CSAT recognizes that each State, Tribe, and local community differs in its ability to immediately implement the proposed services, awarded grantees will be allowed up to 6 months of the first year of the grant to develop any appropriate systems coordination among governmental agencies and community-based organizations, and to start the implementation of the proposed services expansion and/or enhancement. Applicants should clearly indicate the period of time, up to 6 months, needed in year one to develop a systems coordination plan and implement proposed services to the target population.

2.4 Required Systems Linkages and Services/Treatment

Offender reentry, often called reintegration or continuing care, is the process an offender in a juvenile or adult correctional facility goes through as he/she transitions from the institution to the community.

SAMHSA/CSAT has a substantial interest in funding projects that provide both systems linkages and services/treatment for the reentering young offender. Applications must propose to address both of these areas, and funds must be used to support the following activities:

Systems Linkages: Activities that support communities in their development of a comprehensive, multi-agency approach to expanding and/or enhancing substance abuse treatment in addition to juvenile/criminal justice supervision to targeted juveniles and young adults leaving incarceration and returning to the community and to their families (No more than 15% of the total grant award may be used for Systems Linkages activities).

Upon release of the offender to the community, funds should be used to provide effective, comprehensive substance abuse and related reentry services to the target population. The following represents a comprehensive but not inclusive range of systems linkage coordination activities to be provided, and for which funds may be used.

1. Systems coordination planning and developmental activities that bring all the key stakeholder agencies/organizations together.

2. The development of systems linkages and referral sources in the community.

3. Efforts to increase treatment capacity to provide immediate entry into substance abuse treatment.

4. Assistance in paying for Department of Labor Bonding for employment of the substance-abusing offender.

Services/Treatment: Activities that improve the health of the targeted clients by:

• Providing comprehensive substance abuse treatment for the client diagnosed as having a substance abuse disorder;

• Improving family functioning;

• Helping clients develop job skills and find jobs;

• Reducing the likelihood the client will be re-arrested; and

• Reducing the crime rate and the number of victims.

The following represents a comprehensive but not inclusive range of treatment services to be provided, and for which funds may be used.

1. Alcohol and drug (substance abuse) treatment.

2. Wrap around services supporting the access to and retention in substance abuse treatment or to address the treatment-specific needs of clients during or following a substance abuse treatment episode.

3. Screening, assessment, case management, program management and referrals related to substance abuse treatment for clients.

4. Comprehensive individual assessment for alcohol and drug abuse.

5. Individualized services planning.

6. Case management, using a team approach that includes juvenile or adult criminal justice supervising authorities, substance abuse treatment professionals, existing treatment alternatives organizations such as TASC or similar treatment referral and case management models, and law enforcement as appropriate to the community setting.

7. Drug testing as required for supervision, treatment compliance, and therapeutic intervention.

8. Support in obtaining a GED and/or other necessary education.

9. Relapse prevention and long-term management support.

10. As appropriate for juvenile populations, continuing care programming, including peer support groups and mentoring services.

Because CSAT's focus is on the return of the young offender to the community, the expectation is that most proposed treatment and related reentry services will be provided in the community. However, recognizing that effective offender reentry requires assessment and release planning while the offender is incarcerated, limited funds (no more than 15% of the total grant award) may be used for certain activities inside juvenile or adult institutional correctional settings for:

1. Systems coordination planning and developmental activities that bring together all the key stakeholder agencies/organizations identified in the Letters of Support and Commitment to form partnerships that will plan, develop, and provide substance abuse treatment and related reentry services in the community.

2. The development of systems linkages and referral processes in both institutional and communities settings.

3. Purchase and/or administration of brief diagnostic and screening tools for identification of substance abuse issues for the targeted offender population.

4. Purchase and/or administration of substance abuse instruments for the targeted offender population.

5. Intake and/or case management staff with substance abuse treatment expertise to administer assessment instruments and to assist correctional staff in developing the individual offender transition plans for reentry into the community.

6. Community-based organizations, including faith-based groups, to go inside the correctional institution to begin wraparound transition planning activities such as, but not limited to, jobs skills planning or educational program planning for community follow-up upon release.

2.5 Recommended Treatment Models for Youth

Applicants are encouraged, when appropriate for their setting and population, to choose the assessment instrument and one of the treatment protocols listed below. The assessment instrument, the treatment protocols, and other supporting materials are available at http://www.chestnut.org/LI/APSS/CSAT/protocols/. If you experience any difficulty accessing this site, please contact Dan Foust at 309-820-3543, ext. 8-3421 or by email at Dfoust@chestnut.org.

The majority of CSAT's grantees providing services to youth are using a standardized comprehensive bio-psycho-social assessment: The Global Appraisal of Individual Needs. The cost for licensing, software, training, and certification will be borne by CSAT for successful applicants who choose to use this assessment instrument. Successful applicants who use this instrument will also have the opportunity to participate with other grantees in ongoing studies on youth treatment outcomes.

Two of CSAT's earlier grant programs: Cannabis Youth Treatment (CYT), and Adolescent Treatment Models (ATM) tested and manualized a number of effective treatment interventions for youth with substance use disorders. The Assertive Continuing Care (ACC) intervention has also been used successfully by CSAT grantees. These adolescent treatment services interventions range from brief outpatient through long-term residential models. Applicants are encouraged to adopt/adapt one of these protocols as their treatment intervention. Training and technical assistance for implementation of these treatment protocols will be available for successful applicants.

As indicated previously, applicants may propose a planning phase of up to six months of the first year of funding for systems linkages activities. However, even with unexpected delays that may occur, grantees must begin delivery of treatment and reentry services by the end of the first year in order to receive continuation funding for additional years.

2.6 Grantee Meetings

You must plan to send a minimum of two people (including the Project Director) to at least one joint grantee meeting in each year of the grant, and you must include funding for this travel in your budget. At these meetings, grantees will present the results of their projects and Federal staff will provide technical assistance. Each meeting will be 3 days. These meetings will usually be held in the Washington, DC, area, and attendance is mandatory.

2.7 Data and Performance Measurement

The Government Performance and Results Act of 1993 (Pub. L. 103-62, or “GPRA”) requires all Federal agencies to set program performance targets and report annually on the degree to which the previous year's targets were met.

Agencies are expected to evaluate their programs regularly and to use results of these evaluations to explain their successes and failures and justify requests for funding.

To meet the GPRA requirements, SAMHSA must collect performance data (i.e., “GPRA data”) from grantees. Grantees are required to report these GPRA data to SAMHSA on a timely basis. Specifically, grantees will be required to provide data on a set of required measures explained below.

For adults receiving services, GPRA indicators include changes in a positive direction or stability over time on each of five measures, showing that adults receiving your services:

• Are currently employed or engaged in productive activities;

• Have a permanent place to live in the community;

• Have reduced their involvement with the criminal justice system;

• Have not used illegal drugs or misused alcohol or prescription drugs during the past month; and

• Have experienced reduced health, behavior, or social consequences related to abuse of alcohol or illegal drugs or misuse of prescription drugs.

For youth/adolescents under age 18 receiving services, GPRA indicators include changes in a positive direction or stability over time on five measures, showing that youth/adolescents receiving your services:

• Are attending school;

• Are residing in a stable living environment;

• Have no involvement in the juvenile justice system;

• Have not used alcohol or illegal drugs or misused prescription drugs during the previous month; and

• Have experienced reduced health, behavior, or social consequences related to use of alcohol, abuse of illegal drugs, or misuse of prescription drugs.

GPRA data must be collected at baseline (i.e., the client's entry into the project), 6 months after the baseline, and 12 months after the baseline. Projects serving adolescents also must collect 3 month post-baseline data to capture the nuances of change particular to this population. GPRA data must be entered into the GPRA web system within 7 business days of the forms being completed. In addition, 80% of the participants must be followed up.

The data collection tool, Targeted Capacity Expansion Client Level GPRA Tool, to be used for reporting the required data will be provided in the application kits distributed by the National Clearinghouse for Alcohol and Drug Information (NCADI) and can be found at www.csat-gpra.samhsa.gov. (Click on “Data Collection Tools/Instructions.” Then click on “Targeted Capacity Expansion Program,” then “GPRA Tool.”)

In your application, you must demonstrate your ability to collect and report on these measures. GPRA data are to be collected and then entered into CSAT's GPRA Data Entry and Reporting System (www.csat-gpra.samhsa.gov). Training and technical assistance on data collecting, tracking, and follow-up, as well as data entry, will be provided by CSAT.

The terms and conditions of the grant award also will specify the data to be submitted and the schedule for submission. Grantees will be required to adhere to these terms and conditions of award.

Applicants should be aware that SAMHSA is working to develop a set of required core performance measures for four types of grants (i.e., Services Grants, Infrastructure Grants, Best Practices Planning and Implementation Grants, and Service-to-Science Grants). As this effort proceeds, some of the data collection and reporting requirements included in this RFA may change. All grantees will be expected to comply with any changes in data collection requirements that occur during the grantee's project period.

2.8 Evaluation

Grantees must evaluate their projects, and you are required to describe your evaluation plans in your application. The evaluation should be designed to provide regular feedback to the project to improve services. The evaluation must include both process and outcome components. Process and outcome evaluations must measure change relating to project goals and objectives over time compared to baseline information. Control or comparison groups are not required. You must consider your evaluation plan when preparing the project budget.

Process components should address issues such as:

• How closely did implementation match the plan?

• What types of deviation from the plan occurred?

• What led to the deviations?

• What effect did the deviations have on the planned intervention and evaluation?

• Who provided (program, staff) what services (modality, type, intensity, duration), to whom (individual characteristics), in what context (system, community), and at what cost (facilities, personnel, dollars)?

Outcome components should address issues such as:

• What was the effect of treatment on participants?

• What program/contextual factors were associated with outcomes?

• What individual factors were associated with outcomes?

• How durable were the effects?

No more than 20% of the total grant award may be used for evaluation and data collection, including GPRA.

II. Award Information

1. Award Amount

It is expected that $6 million will be available to fund up to 12-14 awards in FY 2004. The average annual award will range from $300,000 to $500,000 in total costs (direct and indirect). Applicants may request up to but no more than $500,000 in total costs (direct and indirect) per year in any year of the grant project. The actual amount available for the awards may vary, depending on unanticipated program requirements and the number and quality of the applications received.

Awards may be requested for up to 4 years. Applicants may request up to six months of the first year for systems coordination planning and development. The planning phase is to be followed by the implementation of the reentry work plan including the delivery of treatment and other reentry services.

Annual continuation awards will depend on the availability of funds, grantee progress in meeting project goals and objectives, and timely submission of required data and reports.

2. Funding Mechanism

Awards for this funding opportunity will be made as grants (see the Glossary in Appendix B for further explanation of this funding mechanism).

III. Eligibility Information

1. Eligible Applicants

Eligible applicants are domestic public and private nonprofit entities. For example, State, local or tribal governments; public or private universities and colleges; courts; community- and faith-based organizations; and tribal organizations may apply. The statutory authority for this program prohibits grants to for-profit organizations.

While units of government may apply, they may not submit “pass through,” “umbrella,” or “cover letter” applications. This means that as the applicant, a unit of government, must take an active role in the oversight of the project, coordinate with the treatment services providers, and be legally, fiscally, and administratively responsible for the grant.

2. Cost-Sharing

Cost-sharing (see Glossary) is not required in this program, and applications will not be screened out on the basis of cost-sharing. However, you may include cash or in-kind contributions (see Glossary) in your proposal as evidence of commitment to the proposed project.

3. Other

3.1 Additional Eligibility Requirements

Applicants must comply with the following requirements or they will be screened out and will not be reviewed: use of the PHS 5161-1 application; application submission requirements in Section IV-3 of this document; and formatting requirements provided in Section IV-2.3 of this document.

3.2 Evidence of Experience and Credentials

SAMHSA believes that only existing, experienced, and appropriately credentialed organizations with demonstrated infrastructure and expertise will be able to provide required services quickly and effectively. Therefore, in addition to the basic eligibility requirements specified in this announcement, applicants must meet three additional requirements related to the provision of treatment or prevention services.

The three requirements are:

• A provider organization for direct client substance abuse treatment services appropriate to the grant must be involved in each application. The provider may be the applicant or another organization committed to the project. More than one provider organization may be involved;

• Each direct service provider organization must have at least 2 years experience providing services in the geographic area(s) covered by the application, as of the due date of the application; and

• Each direct service provider organization must comply with all applicable local (city, county) and State/tribal licensing, accreditation, and certification requirements, as of the due date of the application.

[Note: The above requirements apply to all service provider organizations. A license from an individual clinician will not be accepted in lieu of a provider organization's license.]

In Appendix 1 of the application, you must: (1) Identify at least one experienced, licensed service provider organization; (2) include a list of all direct service provider organizations that have agreed to participate in the proposed project, including the applicant agency if the applicant is a treatment service provider organization; and (3) include the Statement of Assurance (provided in Appendix C of this announcement), signed by the authorized representative of the applicant organization identified on the face-page of the application, that all participating service provider organizations:

• Meet the 2-year experience requirement

• Meet applicable licensing, accreditation, and certification requirements, and,

• If the application is within the funding range, will provide the Government Project Officer (GPO) with the required documentation within the time specified.

If Appendix 1 of the application does not contain items (1)-(3), the application will be considered ineligible and will not be reviewed.

In addition, if, following application review, an application's score is within the fundable range for a grant award, the GPO will call the applicant and request that the following documentation be sent by overnight mail:

• A letter of commitment that specifies the nature of the participation and what service(s) will be provided from every service provider organization that has agreed to participate in the project;

• Official documentation that all participating organizations have been providing relevant services for a minimum of 2 years before the date of the application in the area(s) in which the services are to be provided; and

• Official documentation that all participating service provider organizations comply with all applicable local (city, county) and State/tribal requirements for licensing, accreditation, and certification or official documentation from the appropriate agency of the applicable State/tribal, county, or other governmental unit that licensing, accreditation, and certification requirements do not exist.

If the GPO does not receive this documentation within the time specified, the application will be removed from consideration for an award and the funds will be provided to another applicant meeting these requirements.

IV. Application and Submission Information

To ensure that you have met all submission requirements, a checklist is provided for your use in Appendix A of this document.

1. Address To Request Application Package

You may request a complete application kit by calling SAMHSA's National Clearinghouse for Alcohol and Drug Information (NCADI) at 1-800-729-6686.

You also may download the required documents from the SAMHSA Web site at www.samhsa.gov. Click on “grant opportunities.”

Additional materials available on this Web site include:

• A technical assistance manual for potential applicants;

• Standard terms and conditions for SAMHSA grants;

• Guidelines and policies that relate to SAMHSA grants (e.g., guidelines on cultural competence, consumer and family participation, and evaluation); and

• Enhanced instructions for completing the PHS 5161-1 application.

2. Content and Form of Application Submission

2.1 Required Documents

SAMHSA application kits include the following documents:

• PHS 5161-1 (revised July 2000)—Includes the face page, budget forms, assurances, certification, and checklist. Applications that are not submitted on the required application form will be screened out and will not be reviewed.

• Request for Applications (RFA)—Includes instructions for the grant application. This document is the RFA.

You must use the above documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

• Face Page—Use Standard Form (SF) 424, which is part of the PHS 5161-1. [Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at www.dunandbradstreet.com or call 1-866-705-5711. To expedite the process, let Dun and Bradstreet know that you are a public/private nonprofit organization getting ready to submit a Federal grant application.]

• Abstract—Your total abstract should not be longer than 35 lines. In the first five lines or less of your abstract, write a summary of your project that can be used, if your project is funded, in publications, reporting to Congress, or press releases. Indicate the total number of clients to be treated in each year of the grant, and which population (juveniles or young adult offenders) will be served.

• Table of Contents—Include page numbers for each of the major sections of your application and for each appendix.

• Budget Form—Use SF 424A, which is part of the PHS 5161-1. Fill out Sections B, C, and E of the SF 424A.

• Project Narrative and Supporting Documentation—The Project Narrative describes your project. It consists of Sections A through D. Sections A-D together may not be longer than 25 pages. More detailed instructions for completing each section of the Project Narrative are provided in “Section V—Application Review Information” of this document.

The Supporting Documentation provides additional information necessary for the review of your application. This supporting documentation should be provided immediately following your Project Narrative in Sections E through H. There are no page limits for these sections, except for Section G, the Biographical Sketches/Job Descriptions.

• Section E—Literature Citations. This section must contain complete citations, including titles and all authors, for any literature you cite in your application.

• Section F—Budget Justification, Existing Resources, Other Support. You must provide a narrative justification of the items included in your proposed budget, as well as a description of existing resources and other support you expect to receive for the proposed project. Be sure to show that no more than 15% of the total grant award will be used for certain activities inside juvenile or adult institutional correctional settings and for systems linkages activities, respectively, and that no more than 20% of the total grant award will be used for data collection and evaluation, including GPRA.

• Section G—Biographical Sketches and Job Descriptions.

—Include a biographical sketch for the Project Director and other key positions. Each sketch should be 2 pages or less. If the person has not been hired, include a letter of commitment from the individual with a current biographical sketch.

—Include job descriptions for key personnel. Job descriptions should be no longer than 1 page each.

—Sample sketches and job descriptions are listed on page 22, Item 6 in the Program Narrative section of the PHS 5161-1.

• Section H—Confidentiality and SAMHSA Participant Protection/Human Subjects. Section IV-2.4. of this document describes requirements for the protection of the confidentiality, rights and safety of participants in SAMHSA-funded activities. This section also includes guidelines for completing this part of your application.

• Appendices 1 through 5—Use only the appendices listed below. Do not use more than 30 pages for Appendices 1, 4 and 5. There are no page limitations for Appendices 2 and 3. Do not use appendices to extend or replace any of the sections of the Project Narrative. Reviewers will not consider them if you do.

—Appendix 1: Evidence of Experience and Credentials. Identification of at least one experienced, licensed service provider organization. A list of all direct service provider organizations that have agreed to participate in the proposed project, including the applicant agency, if it is a treatment service provider organization. The Statement of Assurance (provided in Appendix C of this announcement) signed by the authorized representative of the applicant organization identified on the face page of the application, that assures SAMHSA that all listed providers meet the 2-year experience requirement, are appropriately licensed, accredited, and certified, and that if the application is within the funding range for an award, the applicant will send the GPO the required documentation within the specified time.

—Appendix 2: Letters of Support and Commitment from stakeholders and project participants. (As indicated in Section I-2.3, Expectations, Required Letters of Support from Proposed Key Stakeholders.)

—Appendix 3: Data Collection Instruments/Interview Protocols.

—Appendix 4: Sample Consent Forms.

—Appendix 5: Letter to the SSA (if applicable; see Section IV-4 of this document).

• Assurances—Non-Construction Programs. Use Standard Form 424B found in PHS 5161-1. Because grantees in the YORP program will use grant funds to provide direct substance abuse services, applicants are required to complete the Assurance of Compliance with SAMHSA Charitable Choice Statutes and Regulations, Form SMA 170. This form will be posted on SAMHSA's Web site with the RFA and provided in the application kits available at NCADI.

• Certifications—Use the “Certifications” forms found in PHS 5161-1.

• Disclosure of Lobbying Activities—Use Standard Form LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

• Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

• Information provided must be sufficient for review.

• Text must be legible.

—Type size in the Project Narrative cannot exceed an average of 15 characters per inch, as measured on the physical page. (Type size in charts, tables, graphs, and footnotes will not be considered in determining compliance.)

—Text in the Project Narrative cannot exceed 6 lines per vertical inch.

• Paper must be white paper and 8.5 inches by 11.0 inches in size.

• To ensure equity among applications, the amount of space allowed for the Project Narrative cannot be exceeded.

—Applications would meet this requirement by using all margins (left, right, top, bottom) of at least one inch each, and adhering to the 25-page limit for the Project Narrative.

—Should an application not conform to these margin or page limits, SAMHSA will use the following method to determine compliance: The total area of the Project Narrative (excluding margins, but including charts, tables, graphs and footnotes) cannot exceed 58.5 square inches multiplied by 25. This number represents the full page less margins, multiplied by the total number of allowed pages.

—Space will be measured on the physical page. Space left blank within the Project Narrative (excluding margins) is considered part of the Project Narrative, in determining compliance.

• The 30-page limit for Appendices 1, 4 and 5 cannot be exceeded.

To facilitate review of your application, follow these additional guidelines. Failure to adhere to the following guidelines will not, in itself, result in your application being screened out and returned without review. However, following these guidelines will help reviewers to consider your application.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

You must describe your procedures relating to Confidentiality, Participant Protection and the Protection of Human Subjects Regulations in Section H of your application, using the guidelines provided below. Problems with confidentiality, participant protection, and protection of human subjects identified during peer review of your application may result in the delay of funding.

Confidentiality and Participant Protection: All applicants must address each of the following elements relating to confidentiality and participant protection. You must describe how you will address these requirements.

1. Protect Clients and Staff from Potential Risks

• Identify and describe any foreseeable physical, medical, psychological, social and legal risks or potential adverse effects as a result of the project itself or any data collection activity.

• Describe the procedures you will follow to minimize or protect participants against potential risks, including risks to confidentiality.

• Identify plans to provide guidance and assistance in the event there are adverse effects to participants.

• Where appropriate, describe alternative treatments and procedures that may be beneficial to the participants. If you choose not to use these other beneficial treatments, provide the reasons for not using them.

2. Fair Selection of Participants

• Describe the target population(s) for the proposed project. Include age, gender, and racial/ethnic background and note if the population includes homeless youth, foster children, children of substance abusers, pregnant women, or other targeted groups.

• Explain the reasons for including groups of pregnant women, children, people with mental disabilities, people in institutions, prisoners, and individuals who are likely to be particularly vulnerable to HIV/AIDS.

• Explain the reasons for including or excluding participants.

• Explain how you will recruit and select participants. Identify who will select participants.

3. Absence of Coercion

• Explain if participation in the project is voluntary or required. Identify possible reasons why participation is required, for example, court orders requiring people to participate in a program.

• If you plan to compensate participants, state how participants will be awarded incentives (e.g., money, gifts, etc.).

• State how volunteer participants will be told that they may receive services intervention even if they do not participate in or complete the data collection component of the project.

4. Data Collection

• Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

• Identify what type of specimens (e.g., urine, blood) will be used, if any. State if the material will be used just for evaluation or if other use(s) will be made. Also, if needed, describe how the material will be monitored to ensure the safety of participants.

• Provide in Appendix 3, “Data Collection Instruments/Interview Protocols,” copies of all available data collection instruments and interview protocols that you plan to use.

5. Privacy and Confidentiality

• Explain how you will ensure privacy and confidentiality. Include who will collect data and how it will be collected.

• Describe:

—How you will use data collection instruments.

—Where data will be stored.

—Who will or will not have access to information.

—How the identity of participants will be kept private, for example, through the use of a coding system on data records, limiting access to records, or storing identifiers separately from data.

Note: If applicable, grantees must agree to maintain the confidentiality of alcohol and drug abuse client records according to the provisions of title 42 of the Code of Federal Regulations, part II.

6. Adequate Consent Procedures

• List what information will be given to people who participate in the project. Include the type and purpose of their participation. Identify the data that will be collected, how the data will be used and how you will keep the data private.

• State:

—Whether or not their participation is voluntary.

—Their right to leave the project at any time without problems.

—Possible risks from participation in the project.

—Plans to protect clients from these risks.

• Explain how you will get consent for youth, the elderly, people with limited reading skills, and people who do not use English as their first language.

Note: If the project poses potential physical, medical, psychological, legal, social or other risks, you must obtain written informed consent.

• Indicate if you will obtain informed consent from participants or assent from minors along with consent from their parents or legal guardians. Describe how the consent will be documented. For example: Will you read the consent forms? Will you ask prospective participants questions to be sure they understand the forms? Will you give them copies of what they sign?

• Include, as appropriate, sample consent forms that provide for: (1) Informed consent for participation in service intervention; (2) informed consent for participation in the data collection component of the project; and (3) informed consent for the exchange (releasing or requesting) of confidential information. The sample forms must be included in Appendix 4 “Sample Consent Forms”, of your application. If needed, give English translations.

Note: Never imply that the participant waives or appears to waive any legal rights, may not end involvement with the project, or releases your project or its agents from liability for negligence.

• Describe if separate consents will be obtained for different stages or parts of the project. For example, will they be needed for both participant protection in treatment intervention and for the collection and use of data?

• Additionally, if other consents (e.g., consents to release information to others or gather information from others) will be used in your project, provide a description of the consents. Will individuals who do not consent to having individually identifiable data collected for evaluation purposes be allowed to participate in the project?

7. Risk/Benefit Discussion

Discuss why the risks are reasonable compared to expected benefits and importance of the knowledge from the project.

Protection of Human Subjects Regulations. Depending on the evaluation and data collection requirements of the particular funding opportunity for which you are applying or the evaluation design you propose in your application, you may have to comply with the Protection of Human Subjects Regulations (45 CFR 46).

Applicants must be aware that even if the Protection of Human Subjects Regulations do not apply to all projects funded under a given funding opportunity, the specific evaluation design proposed by the applicant may require compliance with these regulations.

Applicants whose projects must comply with the Protection of Human Subjects Regulations must describe the process for obtaining Institutional Review Board (IRB) approval fully in their applications. While IRB approval is not required at the time of grant award, these applicants will be required, as a condition of award, to provide the documentation that an Assurance of Compliance is on file with the Office for Human Research Protections (OHRP) and the IRB approval has been received prior to enrolling any clients in the proposed project.

Additional information about Protection of Human Subjects Regulations can be obtained on the Web at http://ohrp.osophs.dhhs.gov. You may also contact OHRP by e-mail (ohrp@osophs.dhhs.gov) or by phone (301/496-7005).

3. Submission Dates and Times

The deadline for submission of applications for YORP is June 15, 2004.

Your application must be received by the application deadline. Applications received after this date must have a proof-of-mailing date from the carrier dated at least 1 week prior to the due date. Private metered postmarks are not acceptable as proof of timely mailing.

You will be notified by postal mail that your application has been received.

Applications not received by the application deadline or not postmarked by a week prior to the application deadline will be screened out and will not be reviewed.

4. Intergovernmental Review (E.O. 12372) Requirements

Executive Order 12372, as implemented through Department of Health and Human Services (DHHS) regulation at 45 CFR part 100, sets up a system for State and local review of applications for Federal financial assistance. A current listing of State Single Points of Contact (SPOCs) is included in the application kit and can be downloaded from the Office of Management and Budget (OMB) Web site at www.whitehouse.gov/omb/grants/spoc.html.

• Check the list to determine whether your State participates in this program. You do not need to do this if you are a federally recognized Indian tribal government.

• If your State participates, contact your SPOC as early as possible to alert him/her to the prospective application(s) and to receive any necessary instructions on the State's review process.

• For proposed projects serving more than one State, you are advised to contact the SPOC of each affiliated State.

• The SPOC should send any State review process recommendations to the following address within 60 days of the application deadline: Substance Abuse and Mental Health Services Administration, Office of Program Services, Review Branch, 5600 Fishers Lane, Room 17-89, Rockville, Maryland, 20857, ATTN: SPOC—Funding Announcement No. TI 04-002.

In addition, community-based, non-governmental service providers who are not transmitting their applications through the State must submit a Public Health System Impact Statement or PHSIS (approved by OMB under control no. 0920-0428; see burden statement below) to the head(s) of the appropriate State and local health agencies in the area(s) to be affected no later than the pertinent receipt date for applications. The PHSIS is intended to keep State and local health officials informed of proposed health services grant applications submitted by community-based, non-governmental organizations within their jurisdictions. State and local governments and Indian tribal government applicants are not subject to the following Public Health System Reporting Requirements.

This PHSIS consists of the following information:

• a copy of the face page of the application (SF 424); and

• a summary of the project, no longer than one page in length, that provides: (1) A description of the population to be served, (2) a summary of the services to be provided, and (3) a description of the coordination planned with appropriate State or local health agencies.

For SAMHSA grants, the appropriate State agencies are the Single State Agencies (SSAs) for substance abuse and mental health. A listing of the SSAs can be found on SAMHSA's Web site at www.samhsa.gov. If the proposed project falls within the jurisdiction of more than one State, you should notify all representative SSAs.

Applicants who are not the SSA must include a copy of a letter transmitting the PHSIS to the SSA in Appendix 5, “Letter to the SSA.” The letter must notify the State that, if it wishes to comment on the proposal, its comments should be sent not later than 60 days after the application deadline to:

Substance Abuse and Mental Health Services Administration, Office of Program Services, Review Branch, 5600 Fishers Lane, Room 17-89, Rockville, Maryland, 20857, ATTN: SSA—Funding Announcement No. TI 04-002.

In addition:

• Applicants may request that the SSA send them a copy of any State comments.

• The applicant must notify the SSA within 30 days of receipt of an award.

[Public reporting burden for the Public Health System Reporting Requirement is estimated to average 10 minutes per response, including the time for copying the face page of SF 424 and the abstract and preparing the letter for mailing. An agency may not conduct or sponsor, and a person is not required to respond to, a collection of information unless it displays a currently valid OMB control number. The OMB control number for this project is 0920-0428. Send comments regarding this burden to CDC Clearance Officer, 1600 Clifton Road, MS D-24, Atlanta, GA 30333, ATTN: PRA (0920-0428)].

5. Funding Limitations/Restrictions

Cost principles describing allowable and unallowable expenditures for Federal grantees, including SAMHSA grantees, are provided in the following documents:

• Institutions of Higher Education: OMB Circular A-21

• State and Local Governments: OMB Circular A-87

• Nonprofit Organizations: OMB Circular A-122

• Appendix E Hospitals: 45 CFR Part 74

In addition, YORP grant recipients must comply with the following funding restrictions:

• No more than 15% of the total grant award may be used for systems linkages activities.

• No more than 15% of the total grant award may be used for activities inside juvenile or adult correctional facilities.

• No more than 20% of the total grant award may be used for evaluation and data collection, including GPRA.

YORP grant funds must be used for purposes supported by the program and may not be used to:

• Pay for any lease beyond the project period.

• Provide services to incarcerated populations (defined as those persons in jail, prison, detention facilities, or in custody where they are not free to move about in the community), except as noted in the Expectations Section of this RFA.

• Pay for the purchase or construction of any building or structure to house any part of the program. (Applicants may request up to $75,000 for renovations and alterations of existing facilities, if necessary and appropriate to the project.)

• Provide residential or outpatient treatment services when the facility has not yet been acquired, sited, approved, and met all requirements for human habitation and services provision. (Expansion or enhancement of existing residential services is permissible.)

• Pay for housing other than residential substance abuse treatment.

• Provide inpatient treatment or hospital-based detoxification services. Residential services are not considered to be inpatient or hospital-based services.

• Pay for incentives to induce individuals to enter treatment. However, a grantee or treatment provider may provide up to $20 or equivalent (coupons, bus tokens, gifts, child care, and vouchers) to individuals as incentives to participate in required data collection follow-up. This amount may be paid for participation in each required interview.

• Implement syringe exchange programs, such as the purchase and distribution of syringes and/or needles.

• Pay for pharmacologies for HIV antiretroviral therapy, sexually transmitted diseases (STD)/sexually transmitted illnesses (STI), TB, and hepatitis B and C, or for psychotropic drugs.

• Provide any services in a program implementing stated “harm reduction” philosophy or practice.

6. Other Submission Requirements

6.1 Where To Send Applications

Send applications to the following address: Substance Abuse and Mental Health Services Administration, Office of Program Services, Review Branch, 5600 Fishers Lane, Room 17-89, Rockville, Maryland, 20857.

Be sure to include “YORP, TI 04-002” in item number 10 on the face page of the application. If you require a phone number for delivery, you may use (301) 443-4266.

6.2 How To Send Applications

Mail an original application and 2 copies (including appendices) to the mailing address provided above. The original and copies must not be bound. Do not use staples, paper clips, or fasteners. Nothing should be attached, stapled, folded, or pasted.

You must use a recognized commercial or governmental carrier. Hand carried applications will not be accepted. Faxed or e-mailed applications will not be accepted.

V. Application Review Information

1. Evaluation Criteria

Your application will be reviewed and scored according to the quality of your response to the requirements listed below for developing the Project Narrative (Sections A-D). These sections describe what you intend to do with your project.

• In developing the Project Narrative section of your application, use these instructions, which have been tailored to this program. These are to be used instead of the “Program Narrative” instructions found in the PHS 5161-1.

• The Project Narrative (Sections A-D) together may be no longer than 25 pages.

• You must use the four sections/headings listed below in developing your Project Narrative. Be sure to place the required information in the correct section, or it will not be considered. Your application will be scored according to how well you address the requirements for each section of the Project Narrative.

• Reviewers will be looking for evidence of cultural competence in each section of the Project Narrative. Points will be assigned based on how well you address the cultural competence aspects of the evaluation criteria. SAMHSA's guidelines for cultural competence can be found on the SAMHSA Web site at www.samhsa.gov. Click on “Grant Opportunities.”

• The Supporting Documentation you provide in Sections E-H and Appendices 1-5 will be considered by reviewers in assessing your response, along with the material in the Project Narrative.

• The number of points after each heading is the maximum number of points a review committee may assign to that section of your Project Narrative. Except as provided in Section B below, bullet statements in each section do not have points assigned to them. They are provided to invite the attention of applicants and reviewers to important areas within the criterion.

Section A: Understanding the Problem, Justification of Need, and Project Description, 20 points

• For the proposed project, discuss offender reentry, showing an understanding of the substance abuse relationship to crime, the obstacles to effective reentry, and solutions to the obstacles. Review recent literature and other information that demonstrates a thorough understanding of the substance abuse issues in the proposed target population.

• Describe the problem the project will address in terms of unmet treatment need for the target population, using local data to the extent possible.

• Clearly indicate which one of the target populations (sentenced juveniles or young adults) are to be served, and provide the rationale for selecting the target population.

• Describe the target population in terms of demographics, and demonstrate that the target population meets the qualifications listed in Section I-2.1, Target Population in this RFA.

• Describe the geographic area that will have access to expanded or enhanced services and provide recent population numbers for the area.

• Fully describe existing services, including the number and type of current treatment services/slots/beds available and the number of people currently being served.

Section B: Project Plan, 35 points

• Describe the proposed project for meeting the needs you described above in Section A: Understanding the Problem, Justification of Need, and Project Description, making sure that the design is consistent with Section I-2, Expectations, in this RFA.

• Demonstrate an understanding of key stakeholder partnerships needed to plan, develop, and provide substance abuse treatment and related reentry services. Applicants must show evidence of stakeholder partnership by including Letters of Support and Commitment, signed by the head of the agency/organization, from key partners critical to the success of the proposed project in Appendix 2 of the application. (Note: For purposes of rating the understanding of key stakeholder partnerships needed, and the presence of signed Letters of Support and Commitment from key partners in Appendix 2, reviewers will be instructed to use 9 of the total 35 points allowed for Section B for this single critical requirement).

• Describe the systems linkages component of the project design, and define the role and responsibility of each stakeholder. Identify any cash or in-kind contributions that will be made to the project by the applicant or other partnering organizations.

• By grant year, fully describe the number of additional people to be served each year with the grant funds, and the four-year total. State the types of services you will provide these individuals.

• Explain the time frame for year one planning of systems coordination and development; indicate the proposed number of months of planning before actual services provision. (Make sure to comply with the RFA requirement that only up to six months of year one may be used for this purpose.)

• Explain how you propose to provide services to the target population in the correctional or detention facility and which services will be provided there. Discuss how these services are consistent with the limitations on funding within correctional settings specified under Section I-2, Expectations, in this RFA.

• Explain how you propose to provide services to the target population after return to the community, which treatment and related reentry services will be provided, who will provide these services, and how the stakeholders' partnership will coordinate the services and supervision.

• Demonstrate how the proposed project will have a significant impact on the described need during the four years of funding. Demonstrate that the number of persons to be served and the anticipated outcomes of service represent an effective use of funds requested.

• Discuss how the project will address age, race/ethnic, cultural, language, sexual orientation, disability, literacy, and gender issues relative to the target population.

Section C: Evaluation/GPRA, 15 points

• Describe plans to comply with GPRA requirements, including the collection of CSAT's GPRA Core Client Outcomes, and tracking and follow-up procedures to meet the 80% follow-up standard.

• Describe the process and outcome evaluation, including assessments of implementation and individual outcomes. Show how the evaluation will be integrated with requirements for collection and reporting of performance data, including data required by SAMHSA to meet GPRA requirements.

• Discuss instruments to be used, including their reliability, validity, and cultural appropriateness. Document the appropriateness of the proposed approaches to gathering quantitative and qualitative data for the target population. Address not only traditional reliability and validity but also sensitivity to age, gender, language, sexual orientation, culture, literacy, disability and racial/ethnic characteristics of the target population.

• Provide examples of forms that will be signed by clients that permit the appropriate exchange of treatment and other information between the named agencies (i.e., confidentiality waiver forms). Further, provide any data sharing agreements that the key stakeholders will use. Place all of this documentation in Appendices 3 (Data Collection Instruments/Interview Protocols) and 4 (Sample Consent Forms) of your application.

Section D: Project Management, 30 points

Implementation and Operation Plan

• Present a plan for the implementation and operation of the project to achieve the intended results. Include a schedule and timeline of activities and products, target dates and person(s) responsible; and how multi-agency and/or system arrangements will be implemented and managed.

• Describe how the applicant will provide effective management, fiscal, and administrative monitoring and oversight of the grant including the treatment providers and other contractors (including evaluators).

• Demonstrate that the project will be fully operational within six months and providing treatment and related reentry services to the target population within the first year.

Organization Capability

• Describe your experience with the implementation of multi-agency systems partnerships and multi-system programs. Discuss how this experience will contribute to the success of your project.

• If subcontractors are involved, describe their organizational capabilities, and what they will contribute to the project.

Staff and Staffing Plans

• Provide a staffing plan, showing an organizational chart. Include staff, consultants, subcontractors, and collaborating agencies.

• Provide the level of effort and qualifications of the Project Director and other key personnel.

• Provide evidence that the proposed staff have requisite training, experience, and cultural sensitivity to provide services to the target population. Show evidence of the appropriateness of the proposed staff to the language, age, gender, sexual orientation, disability, literacy, and ethnic, racial, and cultural factors of the target population.

Equipment and Facilities

• Describe facilities and equipment available to the project, and any equipment that will have to be procured for the project. Equipment and facilities must be shown to be adequate for the proposed project activities; accessible to the target population; and American Disabilities Act compliant.

Budget, Sustainability and Other Support

• Provide a per-person or unit cost of the project to be implemented, based on the applicant's actual costs and projected costs over the life of the project. Applicants must state whether or not the per person costs are within the following reasonable ranges by treatment modality. Applicants must also discuss the reasonableness of the per person costs. If proposed costs exceed reasonable ranges, a detailed justification must be provided.

• Program costs. The following are considered reasonable ranges by treatment modality:

Residential: $3,000 to $10,000.

Outpatient (Non-Methadone): $1,000 to $5,000.

Outpatient (Methadone): $1,500 to $8,000.

Intensive Outpatient: $1,500 to $7,500.

Screen/Brief Intervention/Brief Treatment/Outreach/Pretreatment Services: $200 to $1,200.

SAMHSA/CSAT computes per person costs as follows. The total support requested for the life of the project is multiplied by .8 (.2 will be the allowance for GPRA reporting requirements). The resulting amount is then divided by the number of persons the applicant proposes to serve over the life of the project.

The outreach and pretreatment services cost band only applies to outreach and pretreatment programs that do not also offer treatment services but operate within a network of substance abuse treatment facilities. Treatment programs that add outreach and pretreatment services to a treatment modality or modalities are expected to fall within the cost band for that treatment modality.

• Provide a plan to secure resources or obtain support to continue activities funded by this program at the end of the period of Federal funding.

Note: Although the budget for the proposed project is not a review criterion, the Review Group will be asked to comment on the appropriateness of the budget after the merits of the application have been considered.

In submitting the line item budgets for each year of the proposed grant, the applicant is to use annualized budgets that are the same each year. This means that the amount requested in the first year (for example, $300,000 in total costs) should be the amount requested for each of the remaining three years ($300,000). Applicants should request a full year's funding in the first year although there is recognition that most projects will not begin operating and serving clients immediately.

Applicants may build in cost-of-living increases for the second, third, and fourth years, but the costs must come from within the other budget lines. For example, an applicant may increase salaries by 3% in accordance with cost of living increases, but the total amount of the budget request must remain at the year one level (using the above indicated example, $300,000 for each year).

2. Review and Selection Process

SAMHSA applications are peer-reviewed according to the review criteria listed above. For those programs where the individual award is over $100,000, applications must also be reviewed by the appropriate National Advisory Council.

Decisions to fund a grant are based on:

• The strengths and weaknesses of the application as identified by peer reviewers and, when applicable, approved by the appropriate National Advisory Council;

• Availability of funds;

• Equitable distribution of awards in terms of geography (including urban, rural and remote settings) and balance among target populations and program size.

• After applying the aforementioned criteria, the following method for breaking ties: When funds are not available to fund all applications with identical scores, SAMHSA will make award decisions based on the application(s) that received the greatest number of points by peer reviewers on the evaluation criterion in Section V-1 with the highest number of possible points (Section B: Project Plan—35 points). Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

2. Administrative and National Policy Requirements

• You must comply with all terms and conditions of the grant award. SAMHSA's standard terms and conditions are available on the SAMHSA Web site www.samhsa.gov/grants/2004/useful_info.asp.

• Depending on the nature of the specific funding opportunity and/or the proposed project as identified during review, additional terms and conditions may be negotiated with the grantee prior to grant award. These may include, for example:

—Actions required to be in compliance with human subjects requirements;

—Requirements relating to additional data collection and reporting;

—Requirements relating to participation in a cross-site evaluation; or

—Requirements to address problems identified in review of the application.

• You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

• In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

• Grantees must provide semi-annual (6 months) and final progress reports. The final report must summarize information from the semi-annual reports, describe the accomplishments of the project, and describe next steps for implementing plans developed during the grant period.

• Grantees must provide annual and final financial status reports. These reports may be included as separate sections of semi-annual and final progress reports or can be separate documents. Because SAMHSA is extremely interested in ensuring that treatment services can be sustained, your financial reports should explain plans to ensure the sustainability (see Glossary) of efforts initiated under this grant. Initial plans for sustainability should be described in year 01. In each subsequent year, you should describe the status of your project, as well as the successes achieved and obstacles encountered in that year.

• SAMHSA will provide guidelines and requirements for these reports to grantees at the time of award and at the initial grantee orientation meeting after award. SAMHSA staff will use the information contained in the reports to determine the grantee's progress toward meeting its goals.

3.2 Government Performance and Results Act (GPRA)

The Government Performance and Results Act (GPRA) mandates accountability and performance-based management by Federal agencies. To meet the GPRA requirements, SAMHSA must collect performance data (i.e., “GPRA data”) from grantees. These requirements are specified in Section I-2.7, Expectations, Data and Performance Measurement, in this RFA.

3.3 Publications

If you are funded under this grant program, you are required to notify the Government Project Officer (GPO) and SAMHSA's Publications Clearance Officer (301-443-8596) of any materials based on the SAMHSA-funded grant project that are accepted for publication.

In addition, SAMHSA requests that grantees:

• Provide the GPO and SAMHSA Publications Clearance Officer with advance copies of publications.

• Include acknowledgment of the SAMHSA grant program as the source of funding for the project.

• Include a disclaimer stating that the views and opinions contained in the publication do not necessarily reflect those of SAMHSA or the U.S. Department of Health and Human Services, and should not be construed as such.

SAMHSA reserves the right to issue a press release about any publication deemed by SAMHSA to contain information of program or policy significance to the substance abuse treatment/substance abuse prevention/mental health services community.

VII. Agency Contacts

For questions on program issues, contact: Kenneth W. Robertson, Team Leader, Systems Improvement Branch, Division of Services Improvement, CSAT/SAMHSA, Rockwall II/Suite 740, 5600 Fishers Lane, Rockville, MD 20857, (301) 443-7612, E-mail: kroberts@samhsa.gov.

For questions on grants management issues, contact: Kathleen Sample, SAMHSA, Division of Grants Management, 5600 Fishers Lane, Rockwall II 6th Floor, Rockville, MD 20857, (301) 443-9667, E-mail: ksample@samhsa.gov.

Appendix A—Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific funding announcement. Please check the entire funding announcement before preparing your application.

• Use the PHS 5161-1 application.

• Applications must be received by the application deadline. Applications received after this date must have a proof of mailing date from the carrier dated at least 1 week prior to the due date. Private metered postmarks are not acceptable as proof of timely mailing. Applications not received by the application deadline or not postmarked at least 1 week prior to the application deadline will not be reviewed.

• Information provided must be sufficient for review.

• Text must be legible.

—Type size in the Project Narrative cannot exceed an average of 15 characters per inch, as measured on the physical page. (Type size in charts, tables, graphs, and footnotes will not be considered in determining compliance.)

—Text in the Project Narrative cannot exceed 6 lines per vertical inch.

• Paper must be white paper and 8.5 inches by 11.0 inches in size.

• To ensure equity among applications, the amount of space allowed for the Project Narrative cannot be exceeded.

—Applications would meet this requirement by using all margins (left, right, top, bottom) of at least one inch each, and adhering to the page limit for the Project Narrative stated in the specific funding announcement.

—Should an application not conform to these margin or page limits, SAMHSA will use the following method to determine compliance: The total area of the Project Narrative (excluding margins, but including charts, tables, graphs and footnotes) cannot exceed 58.5 square inches multiplied by the total number of allowed pages. This number represents the full page less margins, multiplied by the total number of allowed pages.

—Space will be measured on the physical page. Space left blank within the Project Narrative (excluding margins) is considered part of the Project Narrative, in determining compliance.

• The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

• The 10 application components required for SAMHSA applications should be included. These are:

—Face Page (Standard Form 424, which is in PHS 5161-1)

—Abstract

—Table of Contents

—Budget Form (Standard Form 424A, which is in PHS 5161-1)

—Project Narrative and Supporting Documentation

—Appendices

—Assurances (Standard Form 424B, which is in PHS 5161-1)

—Certifications (a form within PHS 5161-1)

—Disclosure of Lobbying Activities (Standard Form LLL, which is in PHS 5161-1)

—Checklist (a form in PHS 5161-1)

• Applications should comply with the following requirements:

—Provisions relating to confidentiality, participant protection and the protection of human subjects specified in Section IV-2.4 of the specific funding announcement.

—Budgetary limitations as specified in Sections I, II, and IV-5 of the specific funding announcement.

—Documentation of nonprofit status as required in the PHS 5161-1.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix B—Glossary

Best Practice: Best practices are practices that incorporate the best objective information currently available regarding effectiveness and acceptability.

Catchment Area: A catchment area is the geographic area from which the target population to be served by a program will be drawn.

Cooperative Agreement: A cooperative agreement is a form of Federal grant. Cooperative agreements are distinguished from other grants in that, under a cooperative agreement, substantial involvement is anticipated between the awarding office and the recipient during performance of the funded activity. This involvement may include collaboration, participation, or intervention in the activity. HHS awarding offices use grants or cooperative agreements (rather than contracts) when the principal purpose of the transaction is the transfer of money, property, services, or anything of value to accomplish a public purpose of support or stimulation authorized by Federal statute. The primary beneficiary under a grant or cooperative agreement is the public, as opposed to the Federal Government.

Cost-Sharing or Matching: Cost-sharing refers to the value of allowable non-Federal contributions toward the allowable costs of a Federal grant project or program. Such contributions may be cash or in-kind contributions. For SAMHSA grants, cost-sharing or matching is not required, and applications will not be screened out on the basis of cost-sharing. However, applicants often include cash or in-kind contributions in their proposals as evidence of commitment to the proposed project. This is allowed, and this information may be considered by reviewers in evaluating the quality of the application.

Fidelity: Fidelity is the degree to which a specific implementation of a program or practice resembles, adheres to, or is faithful to the evidence-based model on which it is based. Fidelity is formally assessed using rating scales of the major elements of the evidence-based model. A toolkit on how to develop and use fidelity instruments is available from the SAMHSA-funded Evaluation Technical Assistance Center at http://tecathsri.org or by calling (617) 876-0426.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

Practice: A practice is any activity, or collective set of activities, intended to improve outcomes for people with or at risk for substance abuse and/or mental illness. Such activities may include direct service provision, or they may be supportive activities, such as efforts to improve access to and retention in services, organizational efficiency or effectiveness, community readiness, collaboration among stakeholder groups, education, awareness, training, or any other activity that is designed to improve outcomes for people with or at risk for substance abuse or mental illness.

Practice Support System: This term refers to contextual factors that affect practice delivery and effectiveness in the pre-adoption phase, delivery phase, and post-delivery phase, such as (a) Community collaboration and consensus building, (b) training and overall readiness of those implementing the practice, and (c) sufficient ongoing supervision for those implementing the practice.

Stakeholder: A stakeholder is an individual, organization, constituent group, or other entity that has an interest in and will be affected by a proposed grant project.

Sustainability: Sustainability is the ability to continue a program or practice after SAMHSA grant funding has ended.

Target Population: The target population is the specific population of people whom a particular program or practice is designed to serve or reach.

Wraparound Service: Wraparound services are non-clinical supportive services—such as child care, vocational, educational, and transportation services—that are designed to improve the individual's access to and retention in the proposed project.

Appendix C—Statement of Assurance

As the authorized representative of the applicant organization, I assure SAMHSA that if {insert name of organization} application is within the funding range for a grant award, the organization will provide the SAMHSA Government Project Officer (GPO) with the following documents. I understand that if this documentation is not received by the GPO within the specified timeframe, the application will be removed from consideration for an award and the funds will be provided to another applicant meeting these requirements.

• A letter of commitment that specifies the nature of the participation and what service(s) will be provided from every service provider organization, listed in Appendix 1 of the application, that has agreed to participate in the project;

• Official documentation that all service provider organizations participating in the project have been providing relevant services for a minimum of 2 years prior to the date of the application in the area(s) in which services are to be provided. Official documents must definitively establish that the organization has provided relevant services for the last 2 years; and

• Official documentation that all participating service provider organizations are in compliance with all local (city, county) and State/tribal requirements for licensing, accreditation, and certification or official documentation from the appropriate agency of the applicable State/tribal, county, or other governmental unit that licensing, accreditation, and certification requirements do not exist. (Official documentation is a copy of each service provider organization's license, accreditation, and certification. Documentation of accreditation will not be accepted in lieu of an organization's license. A statement by, or letter from, the applicant organization or from a provider organization attesting to compliance with licensing, accreditation and certification or that no licensing, accreditation, certification requirements exist does not constitute adequate documentation.)

Signature of Authorized Representative

Date

Dated: April 6, 2004.
Daryl Kade,
Director, Office of Policy, Planning and Budget, Substance Abuse and Mental Health Services Administration.

[FR Doc. 04-8207 Filed 4-9-04; 8:45 am]

BILLING CODE 4162-20-P